DEPARTMENT OF COMMERCE

National Oceanic and Atmospheric Administration

[RTID 0648-XC643]

North Pacific Fishery Management Council; Public Meeting

AGENCY: National Marine Fisheries Service (NMFS), National Oceanic and Atmospheric Administration (NOAA), Commerce.

ACTION: Notice of hybrid meeting.

SUMMARY: The North Pacific Fishery Management Council (NPFMC) Ecosystem Committee will meet January 18, 2023 through January 19, 2023.

DATES: The meeting will be held on Wednesday, January 18, 2023, from 9 a.m. to 5 p.m. and on Thursday, January 19, 2023, from 9 a.m. to 12 p.m., Alaska Time.

ADDRESSES: The meeting will be a hybrid meeting. Attend in-person at the North Pacific Research Board office, 1007 West Third Ave., Suite 100, Anchorage, AK 99501 or join online through the link at https://meetings.npfmc.org/Meeting/Details/2971.

Council address: North Pacific Fishery Management Council, 1007 W 3rd Ave., Anchorage, AK 99501-2252; telephone: (907) 271-2809. Instructions for attending the meeting are given under SUPPLEMENTARY INFORMATION, below.

FOR FURTHER INFORMATION CONTACT: Nicole Watson, Council staff; phone; (907) 271-2809 and email: nicole.watson@noaa.gov. For technical support, please contact administrative Council staff, email: npfmc.admin@noaa.gov.

SUPPLEMENTARY INFORMATION:

Agenda

Wednesday, January 18, 2023 Through Thursday, January 19, 2023

The Ecosystem Committee agenda will include: (a) Gulf of Alaska Fishery Ecosystem Plan (GOA FEP) Considerations; (b) Groundfish Programmatic Supplemental Environmental Impact Statement (PSEIS) planning; (c) Essential Fish Habitat (EFH) 5-year review summary report; (d) Local Knowledge Traditional Knowledge and Subsistence Task Force update; (e) Northern Fur Seal Co-management; and (f) other business. The agenda is subject to change, and the latest version will be posted at https://meetings.npfmc.org/Meeting/Details/2971 prior to the meeting, along with meeting materials.

Connection Information

You can attend the meeting online using a computer, tablet, or smart phone; or by phone only. Connection information will be posted online at: https://meetings.npfmc.org/Meeting/Details/2971.

Public Comment

Public comment letters will be accepted and should be submitted electronically to https://meetings.npfmc.org/Meeting/Details/2971.

Authority: 16 U.S.C. 1801 et seq.

Dated: December 27, 2022.
Rey Israel Marquez,
Acting Deputy Director, Office of Sustainable Fisheries, National Marine Fisheries Service.

[FR Doc. 2022-28463 Filed 12-29-22; 8:45 am]

BILLING CODE 3510-22-P